DEPARTMENT OF HEALTH AND HUMAN SERVICES

Centers for Disease Control and Prevention

Disease, Disability, and Injury Prevention and Control Special Emphasis Panel (SEP): Initial Review

The meeting announced below concerns Conducting Public Health Research in Kenya, FOA GH10-003; Conducting Public Health Research in Thailand by the Ministry of Public Health (MOPH), FOA GH11-002; Conducting Public Health Research in China, FOA GH12-005; Strengthening Disease Prevention Research Capacity for Public Health Action in Guatemala and the Central American Region, FOA GH13-001; Strengthening the Monitoring and Evaluation of Programs for the Elimination and Control of Neglected Tropical Diseases in Africa, FOA GH13-002; Detecting Etiologies of Emerging Infectious Diseases at the Regional Level—Western Ghat Region of Karnataka and Kerala, India, FOA GH13-003; Strengthening Surveillance for Japanese Encephalitis in India, FOA GH13-004; Monitoring and Evaluation of Malaria Control and Elimination Activities, FOA GH13-005; and Research and Technical Assistance for Public Health Interventions in Haiti to Support Post-earthquake Reconstruction, Cholera and HIV/AIDS, FOA GH13-006, initial review.

In accordance with Section 10(a)(2) of the Federal Advisory Committee Act (Pub. L. 92-463), the Centers for Disease Control and Prevention (CDC) announces the aforementioned meeting:

Time and Date: 11:00 a.m.-5:00 p.m., May 6, 2013 (Closed)

Place: Teleconference.

Status: The meeting will be closed to the public in accordance with provisions set forth in Section 552b(c)(4) and (6), Title 5 U.S.C., and the Determination of the Director, Management Analysis and Services Office, CDC, pursuant to Public Law 92-463.

Matters To Be Discussed: The meeting will include the initial review, discussion, and evaluation of applications received in response to “Conducting Public Health Research in Kenya, FOA GH10-003; Conducting Public Health Research in Thailand by the Ministry of Public Health (MOPH), FOA GH11-002; Conducting Public Health Research in China, FOA GH12-005; Strengthening Disease Prevention Research Capacity for Public Health Action in Guatemala and the Central American Region, FOA GH13-001; Strengthening the Monitoring and Evaluation of Programs for the Elimination and Control of Neglected Tropical Diseases in Africa, FOA GH13-002; Detecting Etiologies of Emerging Infectious Diseases at the Regional Level—Western Ghat Region of Karnataka and Kerala, India, FOA GH13-003; Strengthening Surveillance for Japanese Encephalitis in India, FOA GH13-004; Monitoring and Evaluation of Malaria Control and Elimination Activities, FOA GH13-005; and Research and Technical Assistance for Public Health Interventions in Haiti to Support Post-earthquake Reconstruction, Cholera and HIV/AIDS, FOA GH13-006, initial review.”

Contact Person for More Information: Lata Kumar, Scientific Review Officer, CGH Science Office, Center for Global Health, CDC, 1600 Clifton Road, NE., Mailstop D-69, Atlanta, Georgia 30033, Telephone (404) 639-7618.

The Director, Management Analysis and Services Office, has been delegated the authority to sign Federal Register notices pertaining to announcements of meetings and other committee management activities, for both the Centers for Disease Control and Prevention and the Agency for Toxic Substances and Disease Registry.

Dana Redford,
Acting Director, Management Analysis and Services Office, Centers for Disease Control and Prevention.

[FR Doc. 2013-07828 Filed 4-3-13; 8:45 am]

BILLING CODE 4163-18-P